NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110)

Date and Time:

September 17, 2024; 10 a.m.-5 p.m. eastern

September 18, 2024; 10 a.m.-4 p.m. eastern

Place: U.S. National Science Foundation, 2415 Eisenhower Avenue, Alexandria, VA 22314.

The meeting will be hybrid, with some Advisory Committee members participating in person and others participating virtually. For members of NSF and the external community, livestreaming will be accessible through the following pages:

September 17: https://youtube.com/live/p6tMy00TKeg?feature=share

September 18: https://youtube.com/live/qlk5h1vQCrc?feature=share

Information, including how to listen to the planned breakout sessions, will be posted on the meeting event web page prior to the meeting at: https://new.nsf.gov/events/fall-2024-advisory-committee-meeting-directorate.

Type of Meeting: Open.

Contact Persons: Dr. Karen C. Cone, U.S. National Science Foundation, 2415 Eisenhower Avenue, Alexandria, VA 22314; Telephone: (703) 292-4967; Email: kccone@nsf.gov.

Purpose of Meeting: The Advisory Committee for the Directorate for Biological Sciences (BIO) provides advice and recommendations concerning major program emphases, directions, and goals for the research-related activities of the divisions that make up BIO.

Summary of Minutes: Minutes will be available on the BIO Advisory Committee website at https://www.nsf.gov/bio/advisory.jsp or can be obtained from the contact person listed above.

Agenda: Agenda items will include: Directorate business update; overview of NSF/BIO programs in support of the priority research areas of: Bioeconomy, Resilient Planet, and Artificial Intelligence; AC Breakout Groups to discuss opportunities and challenges for BIO in advancing these priority areas, followed by a report out from the breakout groups; overview of NSF and BIO's support of workforce education and training in the priority research areas of: Bioeconomy, Resilient Planet, and Artificial Intelligence; AC Breakout Groups to discuss needs, opportunities, and gaps for workforce development in these priority areas, followed by a report out from the breakout groups; discussion with leaders from the NSF Office of the Director; and other directorate matters.

Dated: August 5, 2024.
Crystal Robinson,
Committee Management Officer.

[FR Doc. 2024-17668 Filed 8-8-24; 8:45 am]

BILLING CODE 7555-01-P